DEPARTMENT OF TRANSPORTATION

Federal Aviation Administration

14 CFR Part 71

[Docket No. FAA-2015-4010; Airspace Docket No. 15-ASO-11]

Establishment of Class D and Class E Airspace, and Amendment of Class E Airspace; Lake City, FL

AGENCY: Federal Aviation Administration (FAA), DOT.

ACTION: Final rule.

SUMMARY: This action establishes Class D airspace and Class E surface area airspace at Lake City, FL, providing the controlled airspace required for the Air Traffic Control Tower at Lake City Gateway Airport. This action also amends existing Class E airspace by recognizing the airport's name change. Controlled airspace is necessary for the safety and management of instrument flight rules (IFR) operations at the airport. A minor adjustment is made to the geographic coordinates of the airport.

DATES: Effective 0901 UTC, May 26, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/airtraffic/publications/. For further information, you can contact the Airspace Policy Group, Federal Aviation Administration, 800 Independence Avenue SW., Washington, DC 20591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: John Fornito, Operations Support Group, Eastern Service Center, Federal Aviation Administration, P.O. Box 20636, Atlanta, Georgia 30320; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it establishes Class D and Class E airspace, and amends Class E airspace at Lake City Gateway Airport, Lake City, FL.

History

On January 13, 2016, the FAA published in the Federal Register a notice of proposed rulemaking (NPRM) to establish Class D airspace and Class E surface area airspace, and amend Class E airspace extending upward from 700 feet above the surface at Lake City Gateway Airport, Lake City, FL, providing the controlled airspace required to support the Air Traffic Control Tower (81 FR 1590) FAA-2015-4010. Interested parties were invited to participate in this rulemaking effort by submitting written comments on the proposal to the FAA. No comments were received. Subsequent to publication, the FAA found an error in the geographic coordinates of Lake City Gateway Airport. This action corrects that error.

Class D and E airspace designations are published in paragraphs 5000, 6002, and 6005, respectively, of FAA Order 7400.9Z dated August 6, 2015, and effective September 15, 2015, which is incorporated by reference in 14 CFR part 71.1. The Class D and E airspace designations listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This amendment to Title 14, Code of Federal Regulations (14 CFR) part 71 establishes Class D airspace and Class E surface area airspace at Lake City Gateway Airport, Lake City, FL, providing the controlled airspace required to support the Air Traffic Control Tower. Class D airspace extending upward from the surface up to and including 2,500 feet is established within a 4.2 mile radius of the airport. Class E surface area airspace is established within a 4.2 mile radius of the airport. Class E airspace extending upward from 700 feet above the surface is amended by changing the airport's name from Lake City Municipal Airport to Lake City Gateway Airport. Controlled airspace is necessary for IFR operations. The geographic latitude coordinate of the airport is adjusted from “lat. 30°10′56″ N.”, to “lat. 30°10′55″ N.” for the Class D and E airspace areas.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120, E.O. 10854, 24 FR 9565, 3 CFR, 1959-1963 Comp., p. 389.

§ 71.1 [Amended]

2. The incorporation by reference in 14 CFR 71.1 of FAA Order 7400.9Z, Airspace Designations and Reporting Points, dated August 6, 2015, effective September 15, 2015, is amended as follows:

Paragraph 5000 Class D Airspace.

* * * * *

ASO FL D Lake City, FL [New]

Lake City Gateway Airport, FL

(Lat. 30°10′55″ N., long. 82°34′37″ W.)

That airspace extending upward from the surface to and including 2,500 feet within a 4.2-mile radius of Lake City Gateway Airport. This Class D airspace area is effective during the specific dates and times established in advance by a Notice to Airmen. The effective date and time will thereafter be continuously published in the Airport/Facility Directory.

Paragraph 6002 Class E Surface Area Airspace.

* * * * *

ASO FL E2 Lake City, FL [New]

Lake City Gateway Airport, FL

(Lat. 30°10′55″ N., long. 82°34′37″ W.)

Within a 4.2-mile radius of Lake City Gateway Airport. This Class E airspace area is effective during the specific dates and times established in advance by a Notice to Airmen. The effective date and time will thereafter be continuously published in the Airport/Facility Directory.

Paragraph 6005 Class E Airspace Areas Extending Upward From 700 Feet or More Above the Surface of the Earth.

* * * * *

ASO FL E5 Lake City, FL [Amended]

Lake City Gateway Airport, FL

(Lat. 30°10′55″ N., long. 82°34′37″ W.)

That airspace extending upward from 700 feet above the surface within a 7-mile radius of Lake City Gateway Airport.

Issued in College Park, Georgia, on March 29, 2016.
Ryan W. Almasy,
Manager, Operations Support Group, Eastern Service Center, Air Traffic Organization.

[FR Doc. 2016-07782 Filed 4-5-16; 8:45 am]

BILLING CODE 4910-13-P